DEPARTMENT OF ENERGY

Federal Energy Regulatory Commission

Combined Notice of Filings #2

Take notice that the Commission received the following electric corporate filings:

Docket Numbers: EC19-23-000.

Applicants: sPower OpCo A, LLC.

Description: Application for Authorization Under Section 203 of the Federal Power Act, et al. of sPower OpCo A, LLC.

Filed Date: 11/6/18.

Accession Number: 20181106-5096.

Comments Due: 5 p.m. ET 11/27/18.

Take notice that the Commission received the following electric rate filings:

Docket Numbers: ER18-1648-002.

Applicants: Midcontinent Independent System Operator, Inc.

Description: Compliance filing: 2018-11-06_Time Bar Compliance Filing to be effective 11/1/2018.

Filed Date: 11/6/18.

Accession Number: 20181106-5051.

Comments Due: 5 p.m. ET 11/27/18.

Docket Numbers: ER18-2440-001.

Applicants: Southern California Edison Company.

Description: Tariff Amendment: SCE's Response to Deficiency re Revised Formula Rate TO Tariff TCJA to be effective 11/16/2018.

Filed Date: 11/6/18.

Accession Number: 20181106-5104.

Comments Due: 5 p.m. ET 11/27/18.

Docket Numbers: ER18-2465-000.

Applicants: Potter Road Powerhouse LLC.

Description: Supplement to September 24, 2018 Potter Road Powerhouse LLC tariff filing.

Filed Date: 11/6/18.

Accession Number: 20181106-5067.

Comments Due: 5 p.m. ET 11/27/18.

Docket Numbers: ER18-2466-000.

Applicants: Federal Way Powerhouse LLC.

Description: Supplement to September 24, 2018 Federal Way Powerhouse LLC tariff filing.

Filed Date: 11/6/18.

Accession Number: 20181106-5066.

Comments Due: 5 p.m. ET 11/27/18.

Docket Numbers: ER19-292-000.

Applicants: Alabama Power Company.

Description: Tariff Cancellation: Clay Solar LGIA Termination Filing to be effective 10/10/2018.

Filed Date: 11/6/18.

Accession Number: 20181106-5055.

Comments Due: 5 p.m. ET 11/27/18.

Docket Numbers: ER19-293-000.

Applicants: Midcontinent Independent System Operator, Inc., ALLETE, Inc.

Description: § 205(d) Rate Filing: 2018-11-06_SA 3202 MP-GRE IA (Clover Valley) to be effective 11/7/2018.

Filed Date: 11/6/18.

Accession Number: 20181106-5079.

Comments Due: 5 p.m. ET 11/27/18.

Docket Numbers: ER19-294-000.

Applicants: GE Oleander LLC.

Description: Baseline eTariff Filing: Application for Market Based Rate Authority to be effective 11/7/2018.

Filed Date: 11/6/18.

Accession Number: 20181106-5082.

Comments Due: 5 p.m. ET 11/27/18.

Docket Numbers: ER19-295-000.

Applicants: ISO New England Inc.

Description: ISO New England Inc. submits Informational filing for Qualification in the Forward Capacity Market.

Filed Date: 11/6/18.

Accession Number: 20181106-5083.

Comments Due: 5 p.m. ET 11/21/18.

Docket Numbers: ER19-296-000.

Applicants: PJM Interconnection, L.L.C.

Description: § 205(d) Rate Filing: Amendment to WMPA, SA No. 4794; Queue No. AC1-116 (consent and amend) to be effective 8/22/2017.

Filed Date: 11/6/18.

Accession Number: 20181106-5107.

Comments Due: 5 p.m. ET 11/27/18.

Docket Numbers: ER19-297-000.

Applicants: Mid-Atlantic Interstate Transmission, LLC, West Penn Power Company.

Description: PJM RTEP Generator Deactivation Project, Incentive Rate Application, et al. of Mid-Atlantic Interstate Transmission, LLC, et al.

Filed Date: 11/6/18.

Accession Number: 20181106-5109.

Comments Due: 5 p.m. ET 11/27/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 6, 2018.
Nathaniel J. Davis, Sr.,
Deputy Secretary.

[FR Doc. 2018-24669 Filed 11-9-18; 8:45 am]

BILLING CODE 6717-01-P